DEPARTMENT OF ENERGY

Federal Energy Regulatory Commission

[Docket No. ER03-171-004, et al.]

Entergy Mississippi, Inc., et al.; Electric Rate and Corporate Filings

April 23, 2003.

The following filings have been made with the Commission. The filings are listed in ascending order within each docket classification.

1. Central Vermont Public Service Corporation and Green Mountain Power Corporation

[Docket No. EC03-78-000]

Take notice that on April 18, 2003, Central Vermont Public Service Corporation (Central Vermont) and Green Mountain Power Corporation (Green Mountain) filed with the Federal Energy Regulatory Commission (Commission) an application pursuant to Section 203 of the Federal Power Act for authorization to transfer certain shares of Common Stock of Vermont Yankee Nuclear Power Corporation (VYNPC) to their respective passive investment holding company subsidiaries Custom Investment Corporation and Green Mountain Power Investment Company. Central Vermont also seeks authorization to transfer certain shares of Connecticut Yankee Atomic Power Corporation, Maine Yankee Atomic Power Corporation and Yankee Atomic Electric Company, and two promissory notes issued by a subsidiary, to Custom Investment Corporation. Central Vermont and Green Mountain request expedited approval to permit the realization of certain tax benefits associated with the payment of dividends by VYNPC.

Green Mountain states that a copy of the filing was served upon the Vermont Public Service Board and upon the Connecticut Department of Public Utility Control.

Comment Date: May 9, 2003.

2. ESI Energy, LLC; ESI Hawkeye Power, LLC; ESI Northeast Energy LP, Inc.; Badger Windpower Holdings, LLC; FPL Energy Lake Benton Acquisitions, LLC; High Winds Holdings, LLC; FPL Energy New Mexico Holdings, LLC and FPL Energy American Wind, LLC

[Docket No. EC03-79-000]

Take notice that on April 18, 2003, pursuant to Section 203 of the Federal Power Act, ESI Energy, LLC, ESI Hawkeye Power, LLC, ESI Northeast Energy, LP, Inc., Badger Windpower Holdings, LLC, FPL Energy Lake Benton Acquisitions, LLC, High Winds Holdings, LLC, FPL Energy New Mexico Holdings, LLC, and FPL Energy American Wind, LLC (jointly, the Applicants) filed a joint application for approval of an intracorporate reorganization. Applicants state that the proposed reorganization will not change the ultimate ownership of the facilities.

The Applicants state that a copy of the application has been served on the public utility commissions in the states where the facilities are located. The Applicants have requested waivers of the Commission's regulations so that the filing may become effective at the earliest possible date, but no later than June 1, 2003.

Comment Date: May 9, 2003.

3. ESI Energy, LLC, FPL Energy Construction Funding LLC

[Docket No. EC03-80-000]

Take notice that on April 18, 2003, pursuant to Section 203 of the Federal Power Act, ESI Energy, LLC and FPL Energy Construction Funding LLC (jointly, the Applicants) filed a joint application for approval of a corporate reorganization. Applicants state that the proposed organization will not change the ultimate ownership of the facilities.

The Applicants state that a copy of the application has been served on the Pennsylvania Public Utility Commission, P.O. Box 3265, Harrisburg, PA 17105-33265, and the Alabama Public Service Commission, P.O. Box 304260, 100 N. Union Street, RSA Union, Suite 850, Montgomery, AL 36130. The Applicants have requested waivers of the Commission's regulations so that the filing may become effective at the earliest possible date, but no later than June 1, 2003.

Comment Date: May 9, 2003.

4. PSEG Energy Resources & Trade, LLC Public Service Electric and Gas Company

[Docket Nos. ER99-3151-002 and ER97-837-003]

Take notice that on April 17, 2003, PSEG Energy Resources & Trade, LLC and Public Service Electric and Gas Company tendered for filing their joint triennial market power update in compliance with the Commission Orders granting them market-based rate authority in Docket Nos. ER99-3151-000 and ER97-837-000.

Comment Date: May 8, 2003.

5. PJM Interconnection, L.L.C.

[Docket No. ER03-694-001]

Take notice that, on April 18, 2003, PJM Interconnection, L.L.C. (PJM) amended its April 1, 2003 filing in Docket No. ER03-694-000 which proposed revisions to the Amended and Restated Operating Agreement of PJM Interconnection, L.L.C. to establish a charge for submission of excessive numbers of bids or offers in the PJM energy market and FTR auctions. PJM requests a waiver of the Commission's sixty-day notice requirement to permit an effective date of April 21, 2003 for the amendments filed in this docket.

PJM states that copies of this filing were served upon each person designated on the official service list compiled by the Secretary in this proceeding, all PJM members, and each state electric utility commission in the PJM region.

Comment Date: May 9, 2003.

6. Entergy Services, Inc.

[Docket No. ER03-753-000]

Take notice that on April 18, 2003, Entergy Services, Inc., on behalf of Entergy Arkansas, Inc., Entergy Gulf States, Inc., Entergy Louisiana, Inc., Entergy Mississippi, Inc., and Entergy New Orleans, Inc. (together, Entergy) submitted for filing several amendments to the Entergy System Agreement to make certain modifications to Service Schedules MSS-4.

Entergy states it has served a copy of this filing on its state and local regulatory commissions and the Commission's Official Service list in Docket No. EL01-88-000.

Comment Date: May 9, 2003.

7. American Transmission Company LLC

[Docket No. ER03-754-000]

Take notice that on April 18, 2003, American Transmission Company LLC (ATCLLC) tendered for filing a revised Generation-Transmission Interconnection Agreement between ATCLLC and Fox Energy Company LLC (Revised Service Agreement No. 233). ATCLLC states that Revised Service Agreement No. 233 consist of amendments to Exhit No. 11. ATCLLC requests retention of the original effective date of January 15, 2002.

Comment Date: May 9, 2003.

8. Public Service Company of New Mexico

[Docket No. ER03-755-000]

Take notice that on April 21, 2003, Public Service Company of New Mexico (PNM) submitted for filing, pursuant to the Regulations of the Federal Energy Regulatory Commission, a Notice of Cancellation of a rate schedule between PNM and Tri-State Generation and Transmission Association, Inc. (Tri-State). Pursuant to PNM's filing, the agreement to be canceled is: The Master Interconnection Agreement of June 12, 1975 Between Tri-State Generation and Transmission Association, Inc., and Public Service Company of New Mexico (Rate Schedule FERC No. 31). PNM states that the filing is available for public inspection at its offices in Albuquerque, New Mexico.

PNM states that a copy of this filing has been served upon Tri-State and informational copies have been sent to the New Mexico Public Regulation Commission and to the New Mexico Attorney General.

Comment Date: May 12, 2003.

9. PacifiCorp

[Docket No. ER03-756-000]

Take notice that on April 21, 2003 PacifiCorp tendered for filing in accordance with 18 CFR 35 of the Commission's Rules and Regulations, PacifiCorp's First Revised Rate Schedule No. 418 Restated Storage and Integration Service Agreement between Public Utility Distric (PUD) No. 1 of Clark County, WA and PacifiCorp.

PacifiCorp states that copies of this filing were supplied to PUD No. 1 of Clark County, WA, the Washington Utilities and Transportation Commission and the Public Utility Commission of Oregon.

Comment Date: May 12, 2003.

10. PECO Energy Company

[Docket No. ER03-757-000]

Take notice that on April 21, 2003, PECO Energy Company (PECO) submitted for filing:

(1) First Revised Sheet Nos. 60—63 Superseding Original Sheet Nos. 60—63, to the Interconnection Agreement between PECO and Exelon Generation Company (Exelon Generation) for the Eddystone Generating Station designated as First Revised Rate Schedule FERC No. 129;

(2) First Revised Sheet Nos. 61 and 62 Superseding Original Sheet Nos. 61 and 62 to the Interconnection Agreement between PECO and Exelon Generation for the Falls Generating Station designated as First Revised Rate Schedule FERC No. 130;

(3) First Revised Sheet Nos. 63 and 64 Superseding Original Sheet Nos. 63 and 64 to the Interconnection Agreement between PECO and Exelon Generation for the Moser Generating Station designated as First Revised Rate Schedule FERC No. 132;

(4) First Revised Sheet Nos. 57 and 58 Superseding Original Sheet Nos. 57 and 58 to the Interconnection Agreement between PECO and Exelon Generation for the Muddyrun Generating Station designated as First Revised Rate Schedule FERC No. 133; and

(5) First Revised Sheet Nos. 62 and 63 Superseding Original Sheet Nos. 62 and 63 to the Interconnection Agreement between PECO and Exelon Generation for the Southwark Generating Station designated as First Revised Rate Schedule FERC No. 138.

PEPCO states that the pages were revised to address the installation of new metering equipment at the generation stations. Copies of this filing were served on Exelon Generation and PJM Interconnection, L.L.C.

Comment Date: May 12, 2003.

11. Jackson County Power, LLC

[Docket No. ER03-758-000]

Take notice that on April 21, 2003, Jackson County Power, LLC submitted a Notice of Cancellation of its FERC Electric Tariff, Original Volume No. 1.

Comment Date: May 12, 2003.

12. Public Service Company of New Mexico

[Docket No. ER03-759-000]

Take notice that on April 21, 2003, Public Service Company of New Mexico (PNM) submitted for filing an executed revised Network Integration Transmission Service Agreement (NITSA) and an associated revised Network Operating Agreement (NOA) with Tri-State Generation and Transmission Association, Inc. (Tri-State), with an effective date of April 1, 2003, under the terms of PNM's Open Access Transmission Tariff (OATT). PNM states that the NITSA and NOA have been updated to reflect current business arrangements between PNM and Tri-State, including (among other things) the incorporation of Tri-State's recently completed Pyramid Generating Station into Tri-State's Network Resources to meet network loads in New Mexico under the NITSA. PNM is requesting an effective date for the NITSA and NOA of April 1, 2003. PNM states that the filing is available for public inspection at its offices in Albuquerque, New Mexico.

PNM states that a copy of this filing has been served upon Tri-State and informational copies have been sent to the New Mexico Public Regulation Commission and to the New Mexico Attorney General.

Comment Date: May 12, 2003.

13. Public Service Company of New Mexico

[Docket No. ER03-760-000]

Take notice that on April 21, 2003, Public Service Company of New Mexico (PNM) submitted for filing an executed revised Control Area Services Agreement with Texas-New Mexico Power Company (TNMP), under the terms of PNM's Open Access Transmission Tariff. PNM states that the agreement updates provisions of an existing Control Area Services Agreement between PNM and TNMP. PNM requests April 1, 2003, as the effective date for the agreement. PNM states that the filing is available for public inspection at its offices in Albuquerque, New Mexico.

PNM states that copies of the filing have been sent to TNMP, the New Mexico Public Regulation Commission and the New Mexico Attorney General.

Comment Date: May 12, 2003.

14. Powersol Energy Marketing, LLC

[Docket No. ER03-761-000]

Take notice that on April 21, 2003, Powersol Energy Marketing, LLC (Powersol) submitted a Notice of Cancellation of Rate Schedule FERC No. 1, filed August 2, 2002 in Docket No. ER02-2413-000.

Powersol states that copies of this filing were served to the relevant state commissions.

Comment Date: May 12, 2003.

15. North West Rural Electric Cooperative

[Docket No. ES03-36-000]

Take notice that on April 18, 2003, North West Rural Electric Cooperative (North West) submitted an application pursuant to section 204 of the Federal Power Act seeking authorization to make long-term borrowings in an amount not to exceed $13.5 million under a line of credit with the National Rural Utilities Cooperative Finance Corporation.

North West also requests a waiver from the Commission's competitive bidding and negotiated placement requirements at 18 CFR 34.2.

Comment Date: May 14, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-10695 Filed 4-30-03; 8:45 am]

BILLING CODE 6717-01-P